ENVIRONMENTAL PROTECTION AGENCY

[FRL-6705-8]

Proposed CERCLA Prospective Purchaser Agreement for the Former O'Shux Golf Course, Adjacent to the Copley Square Plaza Superfund Site

AGENCY: Environmental Protection Agency (EPA).

ACTION: Proposal of CERCLA Prospective Purchaser Agreement for the former O'Shux Golf Course as part of the settlement of the Copley Square Plaza Superfund Site.

SUMMARY: In accordance with the comprehensive Environmental Response, Compensation, and Liability Act of 1980 (CERCLA), 42 U.S.C. 9601 et seq., as amended by the Superfund Amendments and Reauthorization Act of 1986 (SARA), Public Law 99-499, notice is hereby given that a proposed prospective purchaser agreement (PPA) for the former O'Shux Golf Course adjacent to the Copley Square Plaza Superfund Site (Site) located in Copley, Ohio, has been executed by Ameri-Con Inc. The proposed PPA has been submitted to the Attorney General for approval. The proposed PPA would resolve certain potential claims of the United States under sections 106 and 107 of CERCLA, 42 U.S.C. 9606 and 9607, against Ameri-Con Inc. and Ameri-Con Copley, Ltd. The proposed PPA will not pay any money directly to the United States, but is part of a larger settlement by which the United States stands to recover just under 50% of its outstanding response costs incurred at the Site. The Site is not on the National Priorities List.

DATES: Comments on the proposed PPA must be received by U.S. EPA on or before June 26, 2000.

ADDRESSES: A copy of the proposed PPA is available for review at U.S. EPA, Region 5, 77 West Jackson Boulevard, Chicago, Illinois 60604. Please contact Kathleen Schnieders at (312) 353-8912, prior to visiting the Region 5 office.

Comments on the proposed PPA should be addressed to Kathleen Schnieders, Office of Regional Counsel, U.S. EPA, Region 5, 77 West Jackson Boulevard (Mail Code C-14J), Chicago, Illinois 60604.

FOR FURTHER INFORMATION CONTACT: Kathleen Schnieders at (312) 353-8912, of the U.S. EPA Region 5 Office of Regional Counsel.

A 30-day period, commencing on the date of publication of this notice, is open for comments on the proposed PPA. Comments should be sent to the addressee identified in this notice.

Richard C. Karl,
Acting Director, Superfund Division, Region 5.

[FR Doc. 00-13198 Filed 5-25-00; 8:45 am]

BILLING CODE 6560-50-M